DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 9, 2010.

Interested persons are invited to submit written comments regarding the subject matter of the investigations to the Director, Division of Trade Adjustment Assistance, at the address shown below, not later than April 9, 2010.

The petitions filed in this case are available for inspection at the Division of Trade Adjustment Assistance, Employment and Training Administration, U.S. Department of Labor, Room N-5428, 200 Constitution Avenue, NW., Washington, DC 20210.

Signed at Washington, DC, this 12th day of March 2010.
Elliott Kushner,
Certifying Officer, Division of Trade Adjustment Assistance.

Appendix
[TAA petitions instituted between 3/1/10 and 3/5/10]
TA-W | Subject firm (petitioners) | Location | Date of institution | Date of petition
73584 | Analog Devices, Inc. (State) | Cambridge, MA | 03/01/10 | 03/01/10
73585 | Shop Vac Corporation (Wkrs) | Williamsport, PA | 03/01/10 | 02/26/10
73586 | Norcross Safety Products (Comp) | Nashua, NH | 03/01/10 | 02/22/10
73587 | ArcelorMittal Weirton, Inc. (Union) | Weirton, WV | 03/01/10 | 02/26/10
73588 | AGC Chemicals Americas, Inc. (Union) | Exton, PA | 03/01/10 | 02/01/10
73589 | Chrysler Corporation (Wkrs) | Fenton, MO | 03/01/10 | 02/01/10
73590 | Hi-Tech Duravent (State) | Georgetown, MA | 03/02/10 | 02/26/10
73591 | Chrysler Group (Union) | Fenton, MO | 03/02/10 | 02/25/10
73592 | Schneider Electric (Wrks) | Columbia, MO | 03/02/10 | 03/01/10
73593 | IBM (Wkrs) | Boulder, CO | 03/02/10 | 02/24/10
73594 | Glaston America, Inc. (State) | Cinnaminson, NJ | 03/02/10 | 03/01/10
73595 | BT Americas, Inc. (Wkrs) | El Segundo, CA | 03/02/10 | 03/01/10
73596 | Colville Indian Precision Pine (Comp) | Omak, WA | 03/02/10 | 02/24/10
73597 | Tandy Brandis Accessories, Inc. (Comp) | Yoakum, TX | 03/02/10 | 02/22/10
73598 | Biotech Industries (Comp) | Newton, NC | 03/02/10 | 02/28/10
73599 | Forreston Tool, Inc. (Comp) | Forreston, IL | 03/02/10 | 03/01/10
73600 | Kyowa America Corporation (State) | Westminster, CA | 03/02/10 | 03/01/10
73601 | Semperian (State) | Greeley, CO | 03/02/10 | 03/01/10
73602 | Apria Healthcare (Comp) | Jackson, TX | 03/03/10 | 03/01/10
73603 | Apria Healthcare (Comp) | Morrisville, NC | 03/03/10 | 03/01/10
73604 | Apria Healthcare (Comp) | Minster, OH | 03/03/10 | 03/01/10
73605 | Apria Healthcare (Comp) | Indianapolis, IN | 03/03/10 | 03/01/10
73606 | TEK Systems (State) | Brooklyn Park, MN | 03/03/10 | 03/01/10
73607 | Armstrong Hardwood Flooring Company (State) | Oneida, TN | 03/03/10 | 02/26/10
73608 | Pricewaterhouse Coopers, LLP (Wkrs) | Charlotte, NC | 03/03/10 | 01/29/10
73609 | Faurecia Emissions Control Technologies (Comp) | Troy, MI | 03/03/10 | 02/22/10
73610 | Visteon Corporation Regional Assembly and Manufacturing, LLC (Comp) | Springfield, OH | 03/03/10 | 03/02/10
73611 | Pricewaterhouse Coopers, LLP (Wkrs) | Boston, MA | 03/03/10 | 03/02/10
73612 | Weiman Upholstery (Wkrs) | Christiansburg, VA | 03/03/10 | 02/22/10
73613 | Drimark Products, Inc. (Comp) | Port Washington, NY | 03/03/10 | 03/01/10
73614 | Technimark, LLC (Comp) | Fayetteville, NC | 03/03/10 | 02/26/10
73615 | Smurfit-Stone Container (Union) | Jefferson, OH | 03/03/10 | 03/01/10
73616 | Experian (Comp) | Costa Mesa, CA | 03/03/10 | 03/01/10
73617 | Air Products & Chemicals, Inc. (Wkrs) | Allentown, PA | 03/03/10 | 02/18/10
73618 | Quincy Castings, Inc. (Comp) | Quincy, OH | 03/03/10 | 02/23/10
73619 | Charles Craft, Inc. (Comp) | Laurinburg, NC | 03/03/10 | 02/23/10
73620 | Ticona Polymers (Wkrs) | Grover, NC | 03/03/10 | 02/22/10
73621 | Thermo Fisher Hilton Products Division (Union) | Two Rivers, WI | 03/03/10 | 03/02/10
73622 | Kilburn's Plating Company, Inc. (Wkrs) | Adamsville, TN | 03/04/10 | 02/25/10
73623 | LSI Corporation (Wkrs) | Fort Collins, CO | 03/04/10 | 03/03/10
73624 | YRC (Wkrs) | Columbus, OH | 03/04/10 | 03/03/10
73625 | Compuware Corporation (Wkrs) | Detroit, MI | 03/04/10 | 02/10/10
73626 | Magna Powertrain (State) | Troy, MI | 03/04/10 | 02/10/10
73627 | Pratt and Whitney International Aerospace Tubes, LLC (Comp) | Indianapolis, IN | 03/04/10 | 03/01/10
73628 | AF Services, Inc. (State) | Torrance, CA | 03/04/10 | 02/26/10
73629 | Plycraft Industries (State) | Huntington Park, CA | 03/04/10 | 03/02/10
73630 | Pricewaterhouse Coopers, LLP (Wkrs) | Atlanta, GA | 03/04/10 | 03/02/10
73631 | Matsu Ohio (Wkrs) | Edgerton, OH | 03/04/10 | 03/01/10
73632 | Simdar Interconnect Technologies (Wkrs) | Ozark, MO | 03/04/10 | 03/01/10
73633 | Meridian Automotive Systems (State) | Allen Park, MI | 03/04/10 | 02/10/10
73634 | Republic Engineered Products, Inc. (Union) | Canton, OH | 03/04/10 | 03/03/10
73635 | The Boeing Company (Wkrs) | St. Louis, MO | 03/04/10 | 02/24/10
73636 | 1-2-1 Direct Response (State) | Philadelphia, PA | 03/04/10 | 03/01/10
73637 | Aerotek (Wkrs) | Lexington, KY | 03/04/10 | 02/26/10
73638 | Tritex, LLC (Wkrs) | Independence, VA | 03/05/10 | 03/01/10
73639 | Bimbo Bakeries USA, Inc. (Comp) | Houston, TX | 03/05/10 | 01/28/10
73640 | Wacker Chemical Corporation (Comp) | Duncan, SC | 03/05/10 | 03/04/10
73641 | Mitsuba Bardstown, Inc. (Comp) | Bardstown, KY | 03/05/10 | 02/25/10
73642 | Intel Corporation (Comp) | Hillsboro, OR | 03/05/10 | 03/03/10
73643 | IBM Global Services (State) | Southbury, CT | 03/05/10 | 03/04/10
73644 | Cinram Distribution, LLC (Comp) | La Vergne, TN | 03/05/10 | 03/04/10
73645 | Bimbo Bakeries USA, Inc. (Comp) | Montebello, CA | 03/05/10 | 01/28/10
73646 | International Automotive Components (Comp) | Warren, MI | 03/05/10 | 03/01/10
73647 | Cut Loose Inc. (Wkrs) | San Francisco, CA | 03/05/10 | 03/03/10
73648 | Gelita USA (Comp) | Sgt Bluff, IA | 03/05/10 | 03/03/10
73649 | STOPS, Inc. (Wkrs) | Titusville, FL | 03/05/10 | 03/04/10
73650 | Cole Pattern & Engineering (Wkrs) | Fort Wayne, IN | 03/05/10 | 03/03/10

[FR Doc. 2010-6917 Filed 3-29-10; 8:45 am]

BILLING CODE 4510-FN-P